DEPARTMENT OF ENERGY

Federal Energy Regulatory Commission

Non-Project Use of Project Lands and Waters and Soliciting Comments, Motions to Intervene, and Protests

August 18, 2000.

Take notice that the following application has been filed with the Commission and is available for public inspection:

a. Application Type: Non-Project Use of Project Lands and Waters.

b. Project No.: 2232-411.

c. Date Filed: July 5, 2000.

d. Applicant: Duke Energy Corporation.

e. Name of Project: Catawba-Wateree Hydroelectric Project.

f. Location: On Mountain Island Lake at StoneWater Subdivision, in Riverbend Township, Gaston County, North Carolina. The project does not utilize federal or tribal lands.

g. Filed Pursuant to: Federal Power Act, 16 USC 791(a)-825(r).

h. Applicant Contact: Mr. E.M. Oakley, Duke Energy Corporation, P.O. Box 1006 (EC12Y), Charlotte, NC 28201-1006. Phone: (704) 382-5778.

i. FERC Contact: Any questions on this notice should be addressed to Brian Romanek at (202) 219-3076, or e-mail address: brian.romanek@ferc.fed.us.

j. Deadline for filing comments and/or motions: September 25, 2000.

All documents (original and eight copies) should be filed with David P. Boergers, Secretary, Federal Energy Regulatory Commission, 888 First Street, NE, Washington, DC 20426.

Please include the project number (2232-411) on any comments or motions filed.

k. Description of Proposal: Duke Energy Corporation proposes to lease to StoneWater Bay Properties LLC, 2.654 acres of project land for the construction of 5 clustered boat docking facilities with a total of 94 boat slips. The boat slips would provide access to the reservoir for the off-water (or interior lot) residents of the StoneWater Subdivision. One of the slips would be equipped with a waste pump-out station and fuel dispensing station. No dredging is proposed.

l. Locations of the Application: A copy of the application is available for inspection and reproduction at the Commission's Public Reference Room, located at 888 First Street, NE, Washington, DC 20426, or by calling (202) 208-1371. This filing may be viewed on http:\\www.ferc.fed.us/online/rims.htm (call (202) 208-2222 for assistance). A copy is also available for inspection and reproduction at the address in item h above.

m. Individuals desiring to be included on the Commission's mailing list should so indicate by writing to the Secretary of the Commission.

Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

Filing and Service of Responsive Documents—Any filings must bear in all capital letters the title “COMMENTS”, “RECOMMENDATIONS FOR TERMS AND CONDITIONS”, “PROTEST”, or “MOTION TO INTERVENE”, as applicable, and the Project Number of the particular application to which the filing refers. Any of the above-named documents must be filed by providing the original and the number of copies provided by the Commission's regulations to: The Secretary, Federal Energy Regulatory Commission, 888 First Street, NE, Washington, DC 20426. A copy of any motion to intervene must also be served upon each representative of the Applicant specified in the particular application.

Agency Comments—Federal, state, and local agencies are invited to file comments on the described application. A copy of the application may be obtained by agencies directly from the Applicant. If an agency does not file comments within the time specified for filing comments, it will be presumed to have no comments. One copy of an agency's comments must also be sent to the Applicant's representatives.

David P. Boergers,
Secretary.

[FR Doc. 00-21600 Filed 8-23-00; 8:45 am]

BILLING CODE 6717-01-M